ENVIRONMENTAL PROTECTION AGENCY

[EPA-HQ-OAR-2023-0460; FRL-11946-03-OAR]

Release of Volumes 1 and 2 of the Integrated Review Plan for the National Ambient Air Quality Standards for Ozone and Related Photochemical Oxidants

AGENCY: Environmental Protection Agency (EPA).

ACTION: Notice of availability and public comment period.

SUMMARY: On or about December 20, 2024, the Environmental Protection Agency (EPA) is making available to the public Volumes 1 and 2 of the Integrated Review Plan for the National Ambient Air Quality Standards for Ozone and Related Photochemical Oxidants (IRP). The national ambient air quality standards (NAAQS) from photochemical oxidants are set to protect public health and public welfare from these pollutants in ambient air. Volume 1 of the IRP contains contextual background material for the current review of the air quality criteria and the NAAQS. Volume 2 identifies policy-relevant issues in the review and describes key considerations in the EPA's development of the Integrated Science Assessment (ISA). The ISA provides the scientific basis for the EPA's decisions, in conjunction with additional technical and policy assessments, for the review of the NAAQS, as described in sections 108 and 109 of the Clean Air Act.

DATES: Comments must be received on or before January 21, 2025.

ADDRESSES: You may send comments on Volume 2 of the IRP, identified by Docket ID No. EPA-HQ-OAR-2023-0460, by any of the following methods:

• Federal eRulemaking Portal: https://www.regulations.gov/ (our preferred method). Follow the online instructions for submitting comments.

• Mail: U.S. Environmental Protection Agency, EPA Docket Center, Office of Air and Radiation Docket, Mail Code 28221T, 1200 Pennsylvania Avenue NW, Washington, DC 20460.

• Hand Delivery or Courier: EPA Docket Center, WJC West Building, Room 3334, 1301 Constitution Avenue NW, Washington, DC 20004. The Docket Center's hours of operation are 8:30 a.m.-4:30 p.m., Monday-Friday (except Federal Holidays).

Instructions: All submissions received must include the Docket ID No. for this notice. Comments received may be posted without change to https://www.regulations.gov, including any personal information provided. For detailed instructions on sending comments, see the SUPPLEMENTARY INFORMATION section of this document. The two volumes described here will be available on the EPA's website at https://www.epa.gov/naaqs/ozone-o3-air-quality-standards. The documents will be accessible under “Planning Documents” for the current review.

FOR FURTHER INFORMATION CONTACT: Dr. Mary Hutson, Office of Air Quality Planning and Standards, (Mail Code C504-06), U.S. Environmental Protection Agency, 109 T.W. Alexander Drive, P.O. Box 12055, Research Triangle Park, NC 27711; telephone number: 919-541-0715; or email: hutson.mary@epa.gov.

SUPPLEMENTARY INFORMATION:

I. General Information

Written Comments

Submit your comments, identified by Docket ID No. EPA-HQ-OAR-2023-0460, at https://www.regulations.gov (our preferred method), or the other methods identified in the ADDRESSES section. Once submitted, comments cannot be edited or removed from the docket. The EPA may publish any comment received to its public docket. Do not submit to EPA's docket at https://www.regulations.gov any information you consider Confidential Business Information (CBI), Proprietary Business Information (PBI), or other information whose disclosure is restricted by statute. Multimedia submissions (audio, video, etc.) must be accompanied by a written comment. The written comment is considered the official comment and should include a discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

II. Information About the Documents

Two sections of the Clean Air Act (CAA or the Act) govern the establishment and revision of the NAAQS. Section 108 directs the Administrator to identify and list certain air pollutants and then issue “air quality criteria” for those pollutants. The air quality criteria are to “accurately reflect the latest scientific knowledge useful in indicating the kind and extent of all identifiable effects on public health or welfare which may be expected from the presence of such pollutant in the ambient air . . .” (CAA section 108(a)(2)). Under section 109 of the Act, the EPA is then to establish primary (health-based) and secondary (welfare-based) NAAQS for each pollutant for which the EPA has issued air quality criteria. Section 109(d)(1) of the Act requires periodic review and, if appropriate, revision of existing air quality criteria. Revised air quality criteria are to reflect advances in scientific knowledge on the effects of the pollutant on public health and welfare. Under the same provision, the EPA is also to periodically review and, if appropriate, revise the NAAQS based on the revised air quality criteria.

The Act additionally requires the appointment of an independent scientific review committee that is to periodically review the existing air quality criteria and NAAQS and to recommend any new standards and revisions of existing criteria and standards as may be appropriate (CAA section 109(d)(2)(A)-(B)). Since the early 1980s, the Clean Air Scientific Advisory Committee (CASAC) has fulfilled the requirement for an independent scientific review committee.

Presently, the EPA is reviewing the air quality criteria and NAAQS for O3 and related photochemical oxidants.¹ The documents announced in this notice have been developed as part of the integrated review plan (IRP) which is developed in the planning phase for the review. The documents have been prepared jointly by the EPA's Center for Public Health and Environmental Assessment within the Office of Research and Development and the Office of Air Quality Planning and Standards within the Office of Air and Radiation. These documents will be available on the EPA's website: https://www.epa.gov/naaqs/ozone-o3-air-quality-standards, accessible under “Planning Documents” for the current review.

¹ The EPA's call for information for this review was issued on August 21, 2023 (88 FR 58264).

The IRP for the current review of the O3 NAAQS will be comprised of three volumes. Volumes 1 and 2 are the subject of this notice. Volume 1 provides background information on the air quality criteria and O3 NAAQS and may serve as a reference by the public and the CASAC in their consideration of the subsequent two volumes. Volume 2 addresses the general approach for the review and planning for the integrated science assessment (ISA). Comments are solicited from the public on Volume 2, which will also be the subject of a consultation with the CASAC Ozone Panel, to be announced in a separate Federal Register notice. This volume identifies policy-relevant issues in the review and describes key considerations in the EPA's development of the ISA. Volume 3, which is not yet completed, is the planning document for quantitative analyses to be considered in the policy assessment (PA), including exposure and risk analyses, as warranted. In order that consideration of the availability of new evidence in the review can inform these plans, the development and public availability of Volume 3 will generally coincide with that of the draft ISA, and it will be the subject of a consultation with the CASAC Ozone Panel at that time. These documents do not represent and should not be construed to represent any final EPA policy, viewpoint, or determination.

As described above, comments on Volume 2 of the IRP should be submitted to the docket by January 21, 2025. A separate Federal Register notice will provide details about the CASAC Ozone Panel consultation meeting and the process for public participation in the consultation. The EPA will consider the consultation comments and public comments on the IRP, Volume 2, in preparation of the ISA for O3 and related photochemical oxidants. Volume 1 of the IRP, also being made available, provides background or contextual and historical material for this NAAQS review.

Erika N. Sasser,
Director, Health and Environmental Impacts Division.

[FR Doc. 2024-30507 Filed 12-19-24; 8:45 am]

BILLING CODE 6560-50-P